DEPARTMENT OF HEALTH AND HUMAN SERVICES

Food and Drug Administration

21 CFR Part 514

[Docket No. FDA-2017-N-6381]

RIN 0910-AH51

Postmarketing Safety Reports for Approved New Animal Drugs; Electronic Submission Requirements; Correction

AGENCY: Food and Drug Administration, HHS.

ACTION: Final rule; correction.

SUMMARY: The Food and Drug Administration (FDA, the Agency, or we) is correcting a final rule that published in the Federal Register of July 29, 2020. That final rule requires electronic submission of certain postmarketing safety reports for approved new animal drugs and provides a procedure for requesting a temporary waiver of the electronic submission requirement. Table 2 of the final rule published with errors and this document corrects those errors. We are placing a corrected copy of the final rule in the docket.

DATES: Effective September 22, 2020.

FOR FURTHER INFORMATION CONTACT: Linda Walter-Grimm, Center for Veterinary Medicine (HFV-240), Food and Drug Administration, 7519 Standish Pl., MPN4, Rm. 2666, Rockville, MD 20855, 240-402-5762, Linda.Walter-Grimm@fda.hhs.gov.

SUPPLEMENTARY INFORMATION: In the Federal Register of July 29, 2020, (85 FR 45505), FDA published the final rule “Postmarketing Safety Reports for Approved New Animal Drugs; Electronic Submission Requirements” with errors in table 2.

In FR Doc. 2020-15441, appearing on page 45509 in the Federal Register of July 29, 2020, the following corrections are made:

Table 2—Executive Order 13771 Summary Table
[In 2016 Dollars over an infinite time horizon]
| Primary (7%) | Lower bound (7%) | Upper bound (7%) | Primary (3%) | Lower bound (3%) | Upper bound (3%)
Present Value of Costs | $69,720 |  |  | $75,346 |  |
Present Value of Cost Savings | 73,557 |  |  | 171,634 |  |
Present Value of Net Costs | (3,837) |  |  | (96,287) |  |
Annualized Costs | 4,880 |  |  | 2,260 |  |
Annualized Cost Savings | 5,149 |  |  | 5,149 |  |
Annualized Net Costs | (269) |  |  | (2,889) |  |

Dated: August 14, 2020.
Lauren K. Roth,
Associate Commissioner for Policy.

[FR Doc. 2020-18263 Filed 9-21-20; 8:45 am]

BILLING CODE 4164-01-P